POSTAL REGULATORY COMMISSION

[Docket No. CP2014-35; Order No. 2019]

Modification of a Bilateral Postal Agreement

AGENCY: Postal Regulatory Commission.

ACTION: Notice.

SUMMARY: The Commission is noticing a recent Postal Service filing requesting the additional modification to an existing bilateral agreement for inbound competitive services with Posten Norge AS. This notice informs the public of the filing, invites public comment, and takes other administrative steps.

DATES: Comments are due: March 21, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Brian Corcoran, Acting General Counsel, at 202-789-6820.

SUPPLEMENTARY INFORMATION:

Table of Contents

I. Introduction

II. Contents of Filing

III. Commission Action

IV. Ordering Paragraphs

I. Introduction

On March 13, 2014, the Postal Service filed Notice, pursuant to 39 CFR 3015.5, that it has entered into an additional modification (Modification Two) of an existing bilateral agreement for inbound competitive services with Posten Norge AS.¹ Modification Two extends the Norway Post Agreement, as amended by Modification One, indefinitely, at existing rates, beginning April 1, 2014, until amendment or termination pursuant to the terms of the Norway Post Agreement. Notice at 1, 3. The Postal Service requests that the Commission include Modification Two within the Inbound Competitive Multi-Service Agreements with Foreign Postal Operators 1 (Foreign Postal Operators 1) product. Id. at 5.

¹ United States Postal Service Notice of Filing Functionally Equivalent Inbound Competitive Multi-Service Agreement with Norway Post, March 13, 2014 (Notice). Modification One extended the term of the Norway Post Agreement by 18 months (from October 1, 2012 to March 31, 2014). See Docket No. CP2012-60, Order No. 1487, Order Approving Addition of Modified Inbound Competitive Multi-Service Agreements with Foreign Postal Operators 1 Negotiated Service Agreement (Norway Post), September 28, 2012. For the original Norway Post Agreement, see Docket Nos. MC2010-34 and CP2010-95, Order No. 546, Order Adding Inbound Competitive Multi-Service Agreements with Foreign Postal Operators 1 to the Competitive Product List and Approving Included Agreement, September 29, 2010.

II. Contents of Filing

The Notice states that Modification Two, like the Norway Post Agreement, includes rates for inbound Air Parcels. Id. at 3. It addresses product history; describes Modification Two; and uses the Norway Post Agreement as the baseline agreement for purposes of the functional equivalence comparison. See generally id. at 1-5. The Notice includes the following attachments:

• Attachment 1A: a copy of Modification Two;

• Attachment 1B: a copy of Modification One;

• Attachment 1C: a redacted copy of the Norway Post Agreement;

• Attachment 2: the certification required by 39 CFR 3015.5(c)(2);

• Attachment 3: a redacted copy of Governors' Decision No. 10-3; ² and

² The referenced Governors' Decision establishes prices and classifications for Inbound Competitive Multi-Service Agreements with Foreign Postal Operators, presents Mail Classification Schedule language, and provides price formulas.

• Attachment 4: an application for non-public treatment of unredacted material filed under seal (consisting of financial workpapers and Attachments 1C).

The Postal Service separately filed a public version of the financial workpapers. Id. at 3.

III. Commission Action

Notice of establishment of docket. The Commission establishes Docket No. CP2014-35 for consideration of matters raised by the Notice. The Commission appoints Kenneth R. Moeller to serve as Public Representative in this docket.

Interested persons may submit comments on whether the Postal Service's filing in the captioned docket is consistent with the policies of 39 U.S.C. 3632, 3633 and applicable requirements of 39 CFR part 3015. Comments are due no later than March 21, 2014. The public portions of this filing can be accessed via the Commission's Web site (http://www.prc.gov). Information about the Commission's treatment of non-public materials filed by the Postal Service appears at 39 CFR part 3007.

IV. Ordering Paragraphs

It is ordered:

1. The Commission establishes Docket No. CP2014-35 for consideration of the matters raised in this docket.

2. Pursuant to 39 U.S.C. 505, Kenneth R. Moeller is appointed to serve as an officer of the Commission (Public Representative) to represent the interests of the general public in this proceeding.

3. Comments are due no later than March 21, 2014.

4. The Secretary shall arrange for publication of this order in the Federal Register.

By the Commission.
Shoshana M. Grove,
Secretary.

[FR Doc. 2014-06106 Filed 3-19-14; 8:45 am]

BILLING CODE 7710-FW-P